THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Heather C. Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: August 1, 2007.

Time: 8:30 a.m. to 5 p.m.

Room: 315.

Program: This meeting will review applications for Philosophy I in Fellowships, submitted to the Division of Research Programs, at the May 1, 2007 deadline.

2. Date: August 1, 2007.

Time: 2 p.m. to 5 p.m.

Room: 421.

Program: This meeting, which will be by teleconference, will review applications for Public Libraries, submitted to the Office of Challenge Grants, at the May 1, 2007 deadline.

3. Date: August 2, 2007.

Time: 8:30 a.m. to 5 p.m.

Room: 415.

Program: This meeting will review applications for Romance Studies in Fellowships, submitted to the Division of Research Programs, at the May 1, 2007 deadline.

4. Date: August 2, 2007.

Time: 8:30 a.m. to 5 p.m.

Room: 315.

Program: This meeting will review applications for Music History and Theory in Fellowships, submitted to the Division of Research Programs, at the May 1, 2007 deadline.

5. Date: August 6, 2007.

Time: 8:30 a.m. to 5 p.m.

Room: 315.

Program: This meeting will review applications for American Literature I in Fellowships, submitted to the Division of Research Programs, at the May 1, 2007 deadline.

6. Date: August 6, 2007.

Time: 8:30 a.m. to 5 p.m.

Room: 415.

Program: This meeting will review applications for American Literature II in Fellowships, submitted to the Division of Research Programs, at the May 1, 2007 deadline.

7. Date: August 7, 2007.

Time: 8:30 a.m. to 5 p.m.

Room: 415.

Program: This meeting will review applications for Ancient and Classical Studies in Fellowships, submitted to the Division of Research Programs, at the May 1, 2007 deadline.

8. Date: August 7, 2007.

Time: 8:30 a.m. to 5 p.m.

Room: 315.

Program: This meeting will review applications for Medieval and Renaissance Studies in Fellowships, submitted to the Division of Research Programs, at the May 1, 2007 deadline.

9. Date: August 8, 2007.

Time: 8:30 a.m. to 5 p.m.

Room: 415.

Program: This meeting will review applications for Germanic and Slavic Studies in Fellowships, submitted to the Division of Research Programs, at the May 1, 2007 deadline.

10. Date: August 8, 2007.

Time: 8:30 a.m. to 5 p.m.

Room: 315.

Program: This meeting will review applications for Political Science and Jurisprudence in Fellowships, submitted to the Division of Research Programs, at the May 1, 2007 deadline.

11. Date: August 9, 2007.

Time: 8:30 a.m. to 5 p.m.

Room: 315.

Program: This meeting will review applications for American History I in Fellowships, submitted to the Division of Research Programs, at the May 1, 2007 deadline.

12. Date: August 9, 2007.

Time: 8:30 a.m. to 5 p.m.

Room: 415.

Program: This meeting will review applications for Advanced Research Fellowships on Japan in Fellowships for Advanced Research on Japan, submitted to the Division of Research Programs, at the May 1, 2007 deadline.

13. Date: August 10, 2007.

Time: 8:30 a.m. to 5 p.m.

Room: 315.

Program: This meeting will review applications for Sociology, Anthropology, and Psychology in Fellowships, submitted to the Division of Research Programs, at the May 1, 2007 deadline.

14. Date: August 13, 2007.

Time: 8:30 a.m. to 5 p.m.

Room: 315.

Program: This meeting will review applications for Comparative Literature and Literary Criticism in Fellowships, submitted to the Division of Research Programs, at the May 1, 2007 deadline.

15. Date: August 13, 2007.

Time: 8:30 a.m. to 5 p.m.

Room: 315.

Program: This meeting will review applications for Humanities II in Faculty Research Awards, submitted to the Division of Research Programs, at the May 1, 2007 deadline.

16. Date: August 14, 2007.

Time: 8:30 a.m. to 5 p.m.

Room: 415.

Program: This meeting will review applications for Digital Humanities Fellowships III in Digital Humanities Fellowships, submitted to the Division of Research Programs, at the May 1, 2007 deadline.

17. Date: August 14, 2007.

Time: 8:30 a.m. to 5 p.m.

Room: 315.

Program: This meeting will review applications for Philosophy II in Fellowships, submitted to the Division of Research Programs, at the May 1, 2007 deadline.

18. Date: August 15, 2007.

Time: 8:30 a.m. to 5 p.m.

Room: 315.

Program: This meeting will review applications for Religious Studies in Fellowships, submitted to the Division of Research Programs, at the May 1, 2007 deadline.

19. Date: August 16, 2007.

Time: 8:30 a.m. to 5 p.m.

Room: 415.

Program: This meeting will review applications for Film, Media, Rhetoric, and Communication in Fellowships, submitted to the Division of Research Programs, at the May 1, 2007 deadline.

20. Date: August 16, 2007.

Time: 8:30 a.m. to 5 p.m.

Room: 315.

Program: This meeting will review applications for American History II in Fellowships, submitted to the Division of Research Programs, at the May 1, 2007 deadline.

Heather C. Gottry,
Acting Advisory Committee Management Officer.

[FR Doc. E7-13841 Filed 7-17-07; 8:45 am]

BILLING CODE 7536-01-P